DEPARTMENT OF THE TREASURY

Submission for OMB Review; Comment Request

March 2, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 7, 2005 to be assured of consideration.

Internal Revenue Service (IRS)

OMB Number: 1545-0854.

Project Regulation Number: LR-1214.

Type of Review: Extension.

Title: Discharge of Liens.

Description: The Internal Revenue Service needs this information to determine if the tax payer has equity in the property. This information will be used to determine the amount, if any, to which the tax lien attaches.

Respondents: Individuals or Households, Business or other for-profit, Farms.

Estimated Number of Respondents: 500.

Estimated Burden Hours Respondent: 24 minutes.

Frequency of response: On occasion.

Estimated Total Reporting Burden: 200 hours.

Clearance Officer: R. Joseph Durbala (202) 622-3634, Internal Revenue Service, Room 6516, 1111 Constitution Avenue, NW., Washington, DC 20224.

OMB Reviewer: Joseph F. Lackey, Jr. (202) 395-7316, Office of Management and Budget, Room 10235, New Executive Office Building, Washington, DC 20503.

Christopher Davis,
Treasury PRA Assistant.

[FR Doc. 05-4437 Filed 3-7-05; 8:45 am]

BILLING CODE 4830-01-P